DEPARTMENT OF THE INTERIOR

Office of Surface Mining Reclamation and Enforcement

Notice of Proposed Information Collection

AGENCY: Office of Surface Mining Reclamation and Enforcement.

ACTION: Notice and request for comments.

SUMMARY: In compliance with the Paperwork Reduction Act of 1995, the Office of Surface Mining Reclamation and Enforcement (OSM) is announcing its intention to request renewed approval for the collection of information regarding the requirements for coal exploration. The information collection request describes the nature of the information collection and the expected burden and costs. This information collection activity was previously approved by the Office of Management and Budget and assigned control number 1029-0112.

DATES: Comments on the proposed information collection activities must be received by December 19, 2011, to be assured of consideration.

ADDRESSES: Submit comments to John Trelease, Office of Surface Mining Reclamation and Enforcement, 1951 Constitution Ave., NW., Room 203—SIB, Washington, DC 20240. Comments may also be submitted electronically to jtrelease@osmre.gov.

FOR FURTHER INFORMATION CONTACT: To receive a copy of the information collection request, contact John Trelease at (202) 208-2783 or via e-mail at the address listed above.

SUPPLEMENTARY INFORMATION: OMB regulations at 5 CFR 1320, which implement provisions of the Paperwork Reduction Act of 1995 (Pub. L. 104-13), require that interested members of the public and affected agencies have an opportunity to comment on information collection and recordkeeping activities [see 5 CFR 1320.8(d)]. This notice seeks public comment for the information collection that OSM will be submitting to OMB for approval, which is for 30 CFR 772—Requirements for coal exploration. OSM will request a 3-year term of approval for each information collection activity.

An agency may not conduct or sponsor, and a person is not required to respond to, a collection of information unless it displays a currently valid OMB control number. The OMB control number for this collection is 1029-0112 and is found at 30 CFR 772.10.

Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany OSM's submission of the information collection request to OMB.

Before including your address, phone number, e-mail address, or other personal identifying information in your comment, you should be aware that your entire comment, including your personal identifying information, may be made publicly available at any time. While you can ask us in your comment to withhold your personal identifying information from public review, we cannot guarantee that we will be able to do so.

Title: 30 CFR 772—Requirements for coal exploration.

OMB Control Number: 1029-0112.

Summary: OSM and State regulatory authorities use the information collected under 30 CFR Part 772 to keep track of coal exploration activities, evaluate the need for an exploration permit, and ensure that exploration activities comply with the environmental protection and reclamation requirements of 30 CFR Parts 772 and 815 and section 512 of SMCRA (30 U.S.C. 1262).

Bureau Form Number: None.

Frequency of Collection: Once.

Description of Respondents: Persons planning to conduct coal exploration and State regulatory authorities.

Total Annual Responses: 2,526.

Total Annual Burden Hours: 9,114.

Total Annual Non-Wage Costs: $2,074.

Dated: October 12, 2011.
Stephen M. Sheffield,
Acting Chief,
Division of Regulatory Support.

[FR Doc. 2011-26964 Filed 10-18-11; 8:45 am]

BILLING CODE 4310-05-M